ENVIRONMENTAL PROTECTION AGENCY

[ER-FRL-9048-6]

Environmental Impact Statements; Notice of Availability

Responsible Agency: Office of Federal Activities, General Information 202-564-5632 or https://www.epa.gov/nepa/.

Weekly receipt of Environmental Impact Statements

Filed December 16, 2019, 10 a.m. EST, through December 20, 2019 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20190296, Final, USFS, CA, Omya Sentinel & Butterfield Quarries Expansion, Review Period Ends: 01/27/2020, Contact: Scott Eliason 909-382-2830

EIS No. 20190302, Final, BLM, NV, Gemini Solar Final Resource Plan Amendment and Final EIS, Review Period Ends: 01/27/2020, Contact: Herman Pinales 702-515-5284

EIS No. 20190303, Draft Supplement, USACE, CA, Lower Cache Creek, Yolo County, CA, City of Woodland and Vicinity, Draft Supplemental Environmental Impact Statement for the Potential Flood Risk Reduction Project, Comment Period Ends: 02/10/2020, Contact: Keleigh Duey 916-557-5131

EIS No. 20190304, Final, USACE, CA, Amoruso Ranch, Review Period Ends: 01/27/2020, Contact: Leah M. Fisher 916-557-6639

EIS No. 20190305, Draft Supplement, USFS, MT, Greater Red Lodge Vegetation and Habitat Management Project., Comment Period Ends: 02/10/2020, Contact: Victoria Regula 406-848-7375

Amended Notice:

EIS No. 20190272, Draft Supplement, USACE, AL, Allatoona Lake Water Supply Storage Reallocation Study and Updates to Weiss and Logan Martin Reservoirs Project Water Control Manuals, Comment Period Ends: 01/29/2020, Contact: Jennifer Jacobson 251-690-2724

Revision to FR Notice Published 11/15/2019; Extending the Comment Period from 12/30/2019 to 1/29/2020.

Dated: December 20, 2019.
Robert Tomiak,
Director, Office of Federal Activities.

[FR Doc. 2019-27932 Filed 12-26-19; 8:45 am]

BILLING CODE 6560-50-P